DEPARTMENT OF EDUCATION

National Board of the Fund for the Improvement of Postsecondary Education

AGENCY: U.S. Department of Education, Office of Postsecondary Education.

ACTION: Request for nominations to serve on the National Board of the Fund for the Improvement of Postsecondary Education (FIPSE).

SUMMARY: At this time, the Secretary of Education invites interested parties to submit nominations for individuals to serve on FIPSE's Board.

SUPPLEMENTARY INFORMATION: Section 742 of the Higher Education Act of 1965, as amended [20 U.S.C. 1138a], establishes the National Board of the Fund for the Improvement of Postsecondary Education. The Board consists of 15 members appointed by the Secretary of Education. A majority (maximum of eight) of the members of the Board shall consist of public interest representatives, including students, and a minority (maximum of seven) shall consist of educational representatives. At least one of the members must be a student at the time of appointment. Board members are appointed for overlapping 3-year terms. The Board advises the Secretary and, by delegation, the Assistant Secretary of the Office of Postsecondary Education on priorities for the improvement of postsecondary education and the evaluation, dissemination, and adaptation of improvements in postsecondary educational practice. The Board also advises the Secretary on the operation of FIPSE, including providing advice on planning documents, guidelines, and procedures for grant competitions prepared by FIPSE.

Nomination Process: Any interested person or organization may nominate one or more qualified individuals for membership. If you would like to nominate an individual or yourself for appointment to the Board, please submit the following information to the U.S. Department of Education's White House Liaison Office:

• A copy of the nominee's résumé;

• A cover letter that provides your reason(s) for nominating the individual; and

• Contact information for the nominee (name, title, business address, business phone, fax number, and business e-mail address).

In addition, the cover letter must state that the nominee (if nominating someone other than yourself) has agreed to be nominated and is willing to serve on the Board. Nominees will be appointed based on technical qualifications and professional experience. An individual who has previously served on the Board for six consecutive years may not be reappointed for two years after the expiration of the sixth year of service.

DATES: Nominations for the Board must be submitted (postmarked, if sending by mail; received electronically; or received, if hand delivered) by October 19, 2009.

ADDRESSES: You may submit nominations, including attachments, by any of the following methods:

• Electronically: Send to: WhiteHouseLiaison@ed.gov (specify in the e-mail subject line, “FIPSE Nomination”); or

• Mail, express delivery, hand delivery, messenger, or courier service: Submit one copy of the documents listed above to the following address: U.S. Department of Education, White House Liaison Office, 400 Maryland Avenue, SW., Room 7C109, Washington, DC 20202. Attn: Karen Akins.

For questions, contact Karen Akins, White House Liaison Office, at (202) 401-3677; fax (202) 205-0723, or via e-mail at WhiteHouseLiaison@ed.gov.

Dated: September 14, 2009.
Arne Duncan,
Secretary of Education.

[FR Doc. E9-22524 Filed 9-17-09; 8:45 am]

BILLING CODE 4000-01-P